FEDERAL MARITIME COMMISSION

Notice of Request for Additional Information

The Commission gives notice that it has requested that the parties to the below listed agreement provide additional information pursuant to section 6(d) of the Shipping Act of 1984, 46 U.S.C. app. 1701 et seq. The Commission has determined that further information is necessary to evaluate the proposed agreement. This action prevents the agreement from becoming effective as originally scheduled.

Agreement No.: 011769.

Title: Atlantsskip ehf/Samskip hf Space Charter Agreement.

Parties: Atlantsskip ehf, Samskip hf.

By Order of the Federal Maritime Commission.
Dated: July 27, 2001.
Theodore A. Zook,
Assistant Secretary.

[FR Doc. 01-19213 Filed 7-31-01; 8:45 am]

BILLING CODE 6730-01-P